DEPARTMENT OF AGRICULTURE

Forest Service

Forest Resource Coordinating Committee

AGENCY: Forest Service, USDA.

ACTION: Notice of meeting.

SUMMARY: The Forest Resource Committee Meeting will meet in Arlington, Va. The committee is authorized under the Food, Conservation, and Energy Act of 2008 (Pub. L. 110-246). The purpose of the committee is to provide direction and coordination of actions within the U.S. Department of Agriculture, and coordination with State agencies and the private sector, to effectively address the national priorities for non-industrial private forest land. The purpose of the meeting is discuss operational procedures for the committee and develop a workplan of projects for the committee to complete within the year.

DATES: The meeting will be held on April 11-12, 2013.

ADDRESSES: The meeting will be held at 1621 North Kent Street, Arlington, Virginia, in room 703/704. Written comments regarding agenda items must be received by January 24, 2013. Written comments may be submitted by mail to Attn: Maya Solomon, 1400 Independence Ave. SW., mailstop 1123, Washington, DC 20250 or by email to mayasolomon@fs.fed.us.

All comments, including names and addresses when provided, are placed in the record and are available for public inspection and copying. The public may inspect comments received on the Forest Resource Coordinating Committee Web site at http://www.fs.fed.us/spf/coop/frcc/. Visitors are encouraged to call ahead to 202-205-1043 to facilitate entry into the meeting room.

FOR FURTHER INFORMATION CONTACT: Maya Solomon, Forest Resource Coordinating Committee Program Coordinator, Cooperative Forestry staff, 202-205-1376 or Ted Beauvais, Designated Federal Officer, 202-205-1190.

Individuals who use telecommunication devices for the deaf (TDD) may call the Federal Information Relay Service (FIRS) at 1-800-877-8339 between 8:00 a.m. and 8:00 p.m., Eastern Standard Time, Monday through Friday.

SUPPLEMENTARY INFORMATION: The meeting will be held on April 11-12, 2013, from 8:30 a.m. to 5:00 p.m. and is open to the public. The committee will discuss its 2013 plan of work and operational procedures for the committee. The committee will have several presentations relating to private forest landowners and government programs providing assistance to private forests to guide the development of its 2013 workplan.

Please see the Forest Resource Coordinating Committee Web site for any available materials, including a draft agenda for this meeting http://www,fs.fed.us/spf/coop/frcc/. Comments/issues of particular interest to this meeting will also be made available to the public on this Web site. A summary of the meeting will be posted at http://www.fs.fed.us/spf/coop/within 21 days after the meeting.

Dated: January 24, 2013.
James E. Hubbard,
Deputy Chief, State & Private Forestry.

[FR Doc. 2013-02091 Filed 1-30-13; 8:45 am]

BILLING CODE 3410-11-P